ENVIRONMENTAL PROTECTION AGENCY

40 CFR Part 300

[EPA-HQ-SFUND-1983-0002; FRL-9916-67-Region 8]

National Oil and Hazardous Substances Pollution Contingency Plan: Partial Deletion of the California Gulch Superfund Site National Priorities List; Withdrawal

AGENCY: Environmental Protection Agency.

ACTION: Withdrawal of direct final rule.

SUMMARY: On August 12, 2014, the Environmental Protection Agency (EPA) published a direct final notice of partial deletion and a proposed notice of intent for partial deletion for Operable Unit 4, Upper California Gulch; Operable Unit 5, ASARCO Smelters/Slag/Mill Sites; and Operable Unit 7, Apache Tailing Impoundment, of the California Gulch Superfund Site from the National Priorities List. The EPA is withdrawing the final notice of partial deletion due to adverse comments that were received during the public comment period. After consideration of the comments received, if appropriate, EPA will publish a notice of partial deletion in the Federal Register based on the parallel notice of intent for partial deletion and place a copy of the final partial deletion package, including a Responsiveness Summary, if prepared, in the Site repositories.

DATES: The direct final rule published at 79 FR 47007 on August 12, 2014, is withdrawn effective September 17, 2014.

ADDRESSES: Information Repositories: Comprehensive information on the Site, as well as the comments that we received during the comment period, are available in docket EPA-HQ-SFUND-1983-0002, accessed through the http://www.regulations.gov Web site. Although listed in the docket index, some information is not publicly available, e.g., CBI or other information whose disclosure is restricted by statue. Certain other material, such as copyrighted material, will be publicly available only in hard copy. Publicly available docket materials are available either electronically in http://www.regulations.gov or in hard copy:

By calling EPA Region 8 at (303) 312-7279 and leaving a message, or at the Lake County Public Library, 1115 Harrison Avenue, Leadville, CO 80461, (719) 486-0569, Monday and Wednesday from 10:00 a.m.-8:00 p.m., Tuesday and Thursday from 10:00 a.m.-5:00 p.m., and Friday and Saturday 1:00 p.m.-5:00 p.m.

FOR FURTHER INFORMATION CONTACT: Linda Kiefer, Remedial Project Manager, Environmental Protection Agency, Region 8, Mail Code 8EPR-SR, 1595 Wynkoop Street, Denver, CO 80202-1129, (303) 312-6689, email: kiefer.linda@epa.gov.

List of Subjects in 40 CFR Part 300

Environmental protection, Air pollution control, Chemicals, Hazardous waste, Hazardous substances, Intergovernmental relations, Penalties, Reporting and recordkeeping requirements, Superfund, Water pollution control, Water supply.

SUPPLEMENTARY INFORMATION: On August 12, 2014, the Environmental Protection Agency (EPA) published a direct final notice of partial deletion (79 FR 47007) and a proposed notice of intent for partial deletion (79 FR 47043) for Operable Unit 4, Upper California Gulch; Operable Unit 5, ASARCO Smelters/Slag/Mill Sites; and Operable Unit 7, Apache Tailing Impoundment, of the California Gulch Superfund Site from the National Priorities List.

Due to adverse comments that were received during the public comment period, the direct final rule published at 79 FR 47007 on August 12, 2014, is withdrawn.

Authority: 33 U.S.C. 1321(c)(2); 42 U.S.C. 9601-9657; E.O. 13626, 77 FR 56749, 3 CFR, 2013 Comp., p.306; E.O. 12777, 56 FR 54757, 3 CFR, 1991 Comp., p.351; E.O. 12580, 52 FR 2923, 3 CFR, 1987 Comp., p.193.

Dated: September 5, 2014.
Shaun L. McGrath,
Regional Administrator, Region 8.

[FR Doc. 2014-22045 Filed 9-16-14; 8:45 am]

BILLING CODE 6560-50-P